NUCLEAR REGULATORY COMMISSION

10 CFR Part 50

[NRC-2018-0261; FEMA-2012-0026]

Criteria for Preparation and Evaluation of Radiological Emergency Response Plans and Preparedness in Support of Nuclear Power Plants (NUREG-0654/FEMA-REP-1, Rev. 2)

AGENCY: Nuclear Regulatory Commission.

ACTION: Final guidance; issuance.

SUMMARY: The U.S. Nuclear Regulatory Commission (NRC), concurrently with the Federal Emergency Management Agency (FEMA), is issuing final guidance document entitled, “Criteria for Preparation and Evaluation of Radiological Emergency Response Plans and Preparedness in Support of Nuclear Power Plants; Rev. 2” (NUREG-0654/FEMA-REP-1, Rev. 2).

DATES: This final guidance document is available on December 23, 2019.

ADDRESSES: Please refer to Docket ID NRC-2018-0261 when contacting the NRC about the availability of information regarding this document. You may obtain publicly-available information related to this document using any of the following methods:

• Federal Rulemaking Website: Go to https://www.regulations.gov and search for Docket ID NRC-2018-0261 or FEMA-2012-0026. Address questions about NRC docket IDs in Regulations.gov to Jennifer Borges; telephone: 301-287-9127; email: Jennifer.Borges@nrc.gov. Public comments and supporting materials related to this final guidance document can be found at https://www.regulations.gov by searching on Docket ID FEMA-2012-0026. For technical questions, contact the individual listed in the FOR FURTHER INFORMATION CONTACT section of this document.

• NRC's Agencywide Documents Access and Management System (ADAMS): You may obtain publicly available documents online in the ADAMS Public Document collection at https://www.nrc.gov/reading-rm/adams.html. To begin the search, select “Begin Web-based ADAMS Search.” For problems with ADAMS, contact the NRC's Public Document Room (PDR) reference staff at 1-800-397-4209, 301-415-4737, or by email to pdr.resource@nrc.gov. NUREG-0654/FEMA-REP-1, Rev. 2, “Criteria for Preparation and Evaluation of Radiological Emergency Response Plans and Preparedness in Support of Nuclear Power Plants,” Final Report is available in ADAMS under Accession No. ML19347D139.

• NRC's PDR: You may examine and purchase copies of public documents at the NRC's PDR, Room O1-F21, One White Flint North, 11555 Rockville Pike, Rockville, Maryland 20852.

FOR FURTHER INFORMATION CONTACT: Jonathan Fiske, Office of Nuclear Security and Incident Response, U.S. Nuclear Regulatory Commission, Washington, DC 20555-0001; telephone: 301-287-9228, email: Jonathan.Fiske@nrc.gov.

SUPPLEMENTARY INFORMATION:

I. Background

In November 1980, the NRC and FEMA issued “Criteria for Preparation and Evaluation of Radiological Emergency Response Plans and Preparedness in Support of Nuclear Power Plants; Rev. 1” (NUREG-0654/FEMA-REP-1, Rev. 1) as a joint interagency guidance document (45 FR 85862; December 30, 1980). NUREG-0654/FEMA-REP-1, Rev. 1 provides guidance on the 16 Planning Standards referenced in the NRC's regulations in § 50.47 of title 10 of the Code of Federal Regulations (10 CFR), and in FEMA's regulations at 44 CFR 350.5. Both agencies use these Planning Standards, and the associated Evaluation Criteria contained in NUREG-0654/FEMA-REP-1, Rev. 1, to evaluate the adequacy of emergency plans and preparedness of commercial nuclear power plant owners and operators, and state, local, and tribal government jurisdictions located near commercial nuclear power plant sites.

Since the publication of NUREG-0654/FEMA-REP-1, Rev. 1, there have been substantial changes to NRC and FEMA regulations, guidance, and policies and advances in emergency preparedness planning and technology. As a result, the NRC and FEMA have issued four supplementary documents and one addendum to update and expand upon the guidance in NUREG-0654/FEMA-REP-1, Rev 1. This revision consolidates the four supplementary documents and one addendum, and provides updates and additional guidance reflective of over 35 years of improvements and lessons learned in the radiological emergency preparedness community.

The NRC and FEMA held two public meetings on August 22, 2012, and September 13, 2012, to discuss the scope of the proposed revision to NUREG-0654/FEMA-REP-1, Rev. 1 (77 FR 46766; August 6, 2012). To assist in further defining the scope, the NRC and FEMA solicited public comments on specific issues related to NUREG-0654/FEMA-REP-1, Rev. 1 (77 FR 65700; October 30, 2012). Additionally, stakeholder and public engagement sessions were held during staff development of the revised guidance on October 29-31, 2013 and June 25, 2014.

Following development of the revised guidance, the draft NUREG-0654/FEMA-REP-1, Rev. 2 was posted to the Federal Rulemaking website at https://www.regulations.gov for public comment (80 FR 30697; May 29, 2015). The original 90-day comment period was scheduled to conclude on August 27, 2015; however, in response to requests from the public for an extension based on the broad scope of the revision and the extensive review necessary to develop comments, the NRC and FEMA granted a 45-day extension to the original comment period (80 FR 50862; August 21, 2015). The comment period closed on October 13, 2015. In total, the agencies received, reviewed, and considered 609 comments during development of this revision. Of the 609 comments, 64 were accepted (draft guidance was revised exactly as recommended), 154 were agreed to in part, and the remaining 391 were either noted or rejected. In all, 218 comments resulted in revisions to the draft guidance. A detailed report on the comment resolutions, including the agencies' rationales for each comment's disposition, will be available online for review in ADAMS under Accession No. ML19350A378 and at https://www.regulations.gov/, under Docket ID NRC-2018-0261, within 30 days after issuance of the final NUREG-0654/FEMA-REP-1, Rev. 2.

II. Congressional Review Act

The NUREG-0654/FEMA-REP-1, Rev. 2 is a rule as defined in the Congressional Review Act (5 U.S.C. 801-808). However, the Office of Management and Budget has not found it to be a major rule as defined in the Congressional Review Act.

Dated at Rockville, Maryland, this 16th day of December, 2019.
For the Nuclear Regulatory Commission.
Brian E. Holian,
Director, Office of Nuclear Security and Incident Response.

[FR Doc. 2019-27435 Filed 12-20-19; 8:45 am]

BILLING CODE 7590-01-P